DEPARTMENT OF COMMERCE

National Oceanic and Atmospheric Administration

RIN 0648-XD784

Fisheries of the Northeastern United States; Atlantic Herring Fishery; Notice of Intent To Prepare an Environmental Impact Statement; Scoping Process; Request for Comments

AGENCY: National Marine Fisheries Service (NMFS), National Oceanic and Atmospheric Administration (NOAA), Commerce.

ACTION: Notice; intent to prepare an environmental impact statement and initiate scoping process; request for comments.

SUMMARY: The New England Fishery Management Council announces its intention to prepare, in cooperation with NMFS, an environmental impact statement in accordance with the National Environmental Policy Act. An environmental impact statement may be necessary to provide analytical support for Amendment 8 to the Atlantic Herring Fishery Management Plan. Amendment 8 would specify a long-term acceptable biological catch control rule for the herring fishery and consider acceptable biological catch control rule alternatives that account for herring's role in the ecosystem. This notice is to alert the interested public of the scoping process and potential development of a draft environmental impact statement and to outline opportunity for public participation in that process.

DATES: Written and electronic scoping comments must be received on or before 5 p.m., local time, April 30, 2015.

ADDRESSES: Written scoping comments on Amendment 8 may be sent by any of the following methods:

• Email to the following address: comments@nefmc.org;

• Mail to Thomas A. Nies, Executive Director, New England Fishery Management Council, 50 Water Street, Mill 2, Newburyport, MA 01950; or

• Fax to (978) 465-3116.

Requests for copies of the Amendment 8 scoping document and other information should be directed to Thomas A. Nies, Executive Director, New England Fishery Management Council, 50 Water Street, Mill 2, Newburyport, MA 01950, telephone (978) 465-0492. The scoping document is accessible electronically via the Internet at http://www.nefmc.org.

FOR FURTHER INFORMATION CONTACT: Thomas A. Nies, Executive Director, New England Fishery Management Council, (978) 465-0492.

SUPPLEMENTARY INFORMATION:

Background

The New England Fishery Management Council (Council), working through its public participatory committee and meeting processes, anticipates the development of an amendment that may be analyzed through an environmental impact statement (EIS), dependent on addressing applicable criteria in the Council on Environmental Quality regulations and guidance for implementing the National Environmental Policy Act (NEPA). Amendment 8 to the Atlantic Herring Fishery Management Plan (Herring FMP) is anticipated to consider long-term harvest strategies for herring, including an acceptable biological catch (ABC) control rule, that address the biological needs of the herring resource and the role of herring in the ecosystem.

The herring fishery is managed as one stock complex along the east coast from Maine to Cape Hatteras, NC, although evidence suggests that separate spawning components exist within the stock complex. The Council and the Atlantic States Marine Fisheries Commission adopted management measures for the herring fishery in state and Federal waters in 1999 and the Federal Herring FMP became effective on January 10, 2001.

Following the re-authorization of the Magnuson-Stevens Conservation and Fishery Management Act (MSA) in 2007, the Council developed Amendment 4 to the Herring FMP and implemented a process for establishing annual catch limits and accountability measures in the herring fishery. Amendment 4 also defined the herring ABC control rule as the specified approach to setting the ABC for a stock or stock complex as a function of scientific uncertainty in the estimate of the overfishing limit (OFL) and any other scientific uncertainty. The ABC control rule provides guidance to the Council's Scientific and Statistical Committee (SSC) regarding how to specify an annual ABC for herring based on scientific uncertainty, stock status, and the Council's risk tolerance. The ABC control rule specifies a buffer between the OFL and ABC to account for scientific uncertainty, such that there is a low risk in any given year that the OFL for herring will be exceeded. Establishing an ABC control is consistent with National Standard 1 Guidelines for implementing the provisions of the MSA.

During the development of Amendment 4, there was considerable uncertainty surrounding the 2009 herring stock assessment. As part of the 2010-2012 herring fishery specifications process, the SSC recommended that the Council specify an ABC based on recent catch until a new benchmark stock assessment for herring could be completed. Consistent with the SSC advice, the Council specified the herring ABC for 2010-2012 as a three-year average catch level (2006-2008). This specification was adopted as the interim ABC control rule in Amendment 4, to serve as a placeholder until a benchmark stock assessment could be completed and a more appropriate long-term ABC control rule for herring could be developed.

Following a benchmark stock assessment for herring in 2012, the Council and its SSC considered several alternatives for establishing an ABC control rule for herring, including two ABC control rules that explicitly adjust for the role of a forage fish in the ecosystem, during the 2013-2015 fishery specifications process. At that time, the SSC recognized the herring stock assessment's accounting for herring's role in the ecosystem. The SSC recommended that using reference points and projections associated with explicit forage fish ABC control rules receive further evaluation prior to implementation in a long-term harvest strategy for managing the herring fishery. Ultimately, based on SSC advice, the Council adopted an ABC control rule that specified a constant ABC for 2013-2015. The ABC control rule was based on the annual catch projected to produce a less than or equal to 50 percent probability of exceeding the fishing mortality rate to support maximum sustainable yield in 2015. At the conclusion of the 2013-2015 specifications process, the Council recommended a further consideration of long-term harvest strategies for herring either during the next specifications process and/or through an amendment to the Herring FMP.

Amendment 8 is proposed to further consider long-term harvest strategies for herring, including an ABC control rule that addresses the biological needs of the herring resource and explicitly accounts for herring's role in the ecosystem, consistent with the requirements and intent of the MSA. The importance of herring as a forage species is underscored by the Council's specified intent to consider a wide range of alternatives for ABC control rules in this amendment, including those that explicitly account for herring's role in the ecosystem.

The Council's Herring Oversight Committee and the Council will be identifying the goals and objectives for Amendment 8 following the scoping period and will then develop alternatives to meet the purpose and need of the action. Additionally, the Council's Ecosystem-Based Fisheries Management (EBFM) Plan Development Team and EBFM Committee will be developing guidance for managing forage fish within an ecosystem context and will be participating in the development of an ABC control rule and reference points for herring during this amendment. Following input from these Council bodies and the public, the Council will select a range of alternatives to consider long-term harvest strategies and ABC control rules for herring.

Public Comment

All persons affected by or otherwise interested in herring management are invited to participate in determining the scope and significance of issues to be analyzed by submitting written comments (see ADDRESSES) or by attending one of the four scoping meetings for this amendment. Scoping consists of identifying the range of actions, alternatives, and impacts to be considered. At this time in the process, the Council believes that the alternatives considered in Amendment 8 would consider long-term harvest strategies and ABC control rules for herring that explicitly account for herring's role in the ecosystem. After the scoping process is completed, the Council will begin development of Amendment 8 and will prepare an EIS to analyze the impacts of the range of alternatives under consideration. Impacts may be direct, individual, or cumulative. The Council will hold public hearings to receive comments on the draft amendment and on the analysis of its impacts presented in the Draft EIS.

In addition to soliciting comment on this notice, the public will have the opportunity to comment on the measures and alternatives being considered by the Council through public meetings and public comment periods consistent with NEPA, the MSA, and the Administrative Procedure Act. The following scoping meetings have been scheduled. The Council will take and discuss scoping comments on this amendment at the following public meetings:

1. Friday, March 6, 2015; 10:30 a.m.; Samoset Resort, Rockland Room, 220 Warrenton Street, Rockport, ME 04856; (207) 594-2511.

2. Thursday, March 26, 2015; 6 p.m.; DoubleTree by Hilton, 50 Ferncroft Road, Danvers, MA 01923; (978) 777-2500.

3. Monday, April 6, 2015; 6 p.m.; Webinar; Register to participate: https://attendee.gotowebinar.com/register/700212250002809602; call-in (631) 992-3221; Access Code 541-819-750.

4. Monday, April 20, 2015; 6 p.m.; Hilton Hotel, 20 Coogan Boulevard, Mystic, CT 06355; (860) 572-0731.

Special Accommodations

The meetings are accessible to people with physical disabilities. Requests for sign language interpretation or other auxiliary aids should be directed to Thomas A. Nies (see ADDRESSES) at least five days prior to this meeting date.

Authority: 16 U.S.C. 1801 et seq.

Dated: February 23, 2015 .
Emily H. Menashes,
Acting Director, Office of Sustainable Fisheries, National Marine Fisheries Service.

[FR Doc. 2015-03992 Filed 2-25-15; 8:45 am]

BILLING CODE 3510-22-P